DEPARTMENT OF TRANSPORTATION

Federal Aviation Administration

14 CFR Part 97

[Docket No. 30975; Amdt. No. 3606]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 25, 2014. The compliance date for each SIAP, associated Takeoff Minimums, and ODP is specified in the amendatory provisions.

The incorporation by reference of certain publications listed in the regulations is approved by the Director of the Federal Register as of September 25, 2014.

ADDRESSES: Availability of matter incorporated by reference in the amendment is as follows:

For Examination —

1. FAA Rules Docket, FAA Headquarters Building, 800 Independence Avenue SW, Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK. 73169 (Mail Address: P.O. Box 25082 Oklahoma City, OK. 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on August 15, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No, | FDC date | Subject
18-Sep-14 | AK | Cold Bay | Cold Bay | 4/4404 | 07/17/14 | This NOTAM, published in TL 14-19, is hereby rescinded in its entirety.
18-Sep-14 | TX | Dallas-Fort Worth | Dallas/Fort Worth Intl | 4/0336 | 08/07/14 | VOR RWY 31L, Orig-B.
18-Sep-14 | TX | Dallas-Fort Worth | Dallas/Fort Worth Intl | 4/0337 | 08/07/14 | CONVERGING ILS RWY 36R, Amdt 3.
18-Sep-14 | TX | Dallas-Fort Worth | Dallas/Fort Worth Intl | 4/0339 | 08/07/14 | ILS OR LOC RWY 35L, Amdt 5.
18-Sep-14 | TX | Dallas-Fort Worth | Dallas/Fort Worth Intl | 4/0340 | 08/07/14 | CONVERGING ILS RWY 35L, Amdt 4.
18-Sep-14 | TX | Dallas-Fort Worth | Dallas/Fort Worth Intl | 4/0345 | 08/07/14 | ILS OR LOC RWY 36L, Amdt 2.
18-Sep-14 | TX | Dallas-Fort Worth | Dallas/Fort Worth Intl | 4/0347 | 08/07/14 | ILS OR LOC RWY 31R, Amdt 14A.
18-Sep-14 | TX | Dallas-Fort Worth | Dallas/Fort Worth Intl | 4/0348 | 08/07/14 | CONVERGING ILS RWY 31R, Amdt 8.
18-Sep-14 | TX | Dallas-Fort Worth | Dallas/Fort Worth Intl | 4/0349 | 08/07/14 | CONVERGING ILS RWY 36L, Amdt 2.
18-Sep-14 | TX | Dallas-Fort Worth | Dallas/Fort Worth Intl | 4/0350 | 08/07/14 | ILS OR LOC RWY 36R, Amdt 5.
18-Sep-14 | IN | Kendallville | Kendallville Muni | 4/0907 | 08/08/14 | RNAV (GPS) RWY 28, Amdt 1.
18-Sep-14 | IN | Kendallville | Kendallville Muni | 4/0962 | 08/08/14 | RNAV (GPS) RWY 10, Orig.
18-Sep-14 | IN | Frankfort | Frankfort Muni | 4/0979 | 08/08/14 | NDB RWY 9, Amdt 3A.
18-Sep-14 | IN | Frankfort | Frankfort Muni | 4/0980 | 08/08/14 | RNAV (GPS) RWY 9, Amdt 1.
18-Sep-14 | IN | Indianapolis | Indianapolis Executive | 4/1006 | 08/08/14 | VOR/DME RWY 18, Amdt 1.
18-Sep-14 | IN | Indianapolis | Indianapolis Executive | 4/1009 | 08/08/14 | RNAV (GPS) RWY 18, Amdt 1.
18-Sep-14 | IN | Indianapolis | Indianapolis Executive | 4/1011 | 08/08/14 | VOR/DME RWY 36, Amdt 9A.
18-Sep-14 | CO | Denver | Rocky Mountain Metropolitan | 4/1170 | 08/01/14 | RNAV (GPS) RWY 29L, Amdt 1A.
18-Sep-14 | CO | Denver | Rocky Mountain Metropolitan | 4/1171 | 08/01/14 | RNAV (GPS) RWY 29R, Amdt 1A.
18-Sep-14 | CO | Denver | Rocky Mountain Metropolitan | 4/1180 | 08/01/14 | ILS OR LOC Y RWY 29R, Amdt 14A.
18-Sep-14 | CO | Denver | Rocky Mountain Metropolitan | 4/1181 | 08/01/14 | ILS OR LOC Z RWY 29R, Orig-A.
18-Sep-14 | RI | Providence | Theodore Francis Green State | 4/1769 | 08/04/14 | VOR/DME RWY 16, Amdt 4C.
18-Sep-14 | AK | Iliamna | Iliamna | 4/2479 | 08/04/14 | RNAV (GPS) RWY 35, Amdt 2.
18-Sep-14 | AZ | Phoenix | Phoenix Sky Harbor Intl | 4/2639 | 08/04/14 | ILS OR LOC/DME RWY 7L, Amdt 11.
18-Sep-14 | VA | Wallops Island | Wallops Flight Facility | 4/2697 | 08/11/14 | VOR OR TACAN RWY 17, Amdt 7.
18-Sep-14 | VA | Wallops Island | Wallops Flight Facility | 4/2701 | 08/11/14 | RNAV (GPS) RWY 10, Amdt 1.
18-Sep-14 | VA | Wallops Island | Wallops Flight Facility | 4/2702 | 08/11/14 | RNAV (GPS) RWY 35, Orig.
18-Sep-14 | VA | Wallops Island | Wallops Flight Facility | 4/2703 | 08/11/14 | RNAV (GPS) RWY 17, Amdt 1.
18-Sep-14 | VA | Wallops Island | Wallops Flight Facility | 4/2704 | 08/11/14 | VOR/DME OR TACAN RWY 10, Amdt 6.
18-Sep-14 | VA | Wallops Island | Wallops Flight Facility | 4/2705 | 08/11/14 | RNAV (GPS) RWY 28, Amdt 1.
18-Sep-14 | VA | Wallops Island | Wallops Flight Facility | 4/2706 | 08/11/14 | RNAV (GPS) RWY 4, Amdt 1.
18-Sep-14 | VA | Wallops Island | Wallops Flight Facility | 4/2707 | 08/11/14 | RNAV (GPS) RWY 22, Amdt 1.
18-Sep-14 | NJ | Trenton | Trenton Mercer | 4/2834 | 08/08/14 | RNAV (GPS) RWY 16, Orig.
18-Sep-14 | NJ | Trenton | Trenton Mercer | 4/2835 | 08/08/14 | RNAV (RNP) Y RWY 6, Orig-A.
18-Sep-14 | NJ | Trenton | Trenton Mercer | 4/2836 | 08/08/14 | NDB RWY 6, Amdt 7.
18-Sep-14 | NJ | Trenton | Trenton Mercer | 4/2837 | 08/08/14 | RNAV (GPS) Z RWY 6, Orig.
18-Sep-14 | NJ | Trenton | Trenton Mercer | 4/2839 | 08/08/14 | RNAV (RNP) Y RWY 24, Orig.
18-Sep-14 | NJ | Trenton | Trenton Mercer | 4/2840 | 08/08/14 | RNAV (GPS) Z RWY 24, Amdt 1.
18-Sep-14 | NJ | Trenton | Trenton Mercer | 4/2841 | 08/08/14 | RNAV (GPS) RWY 34, Orig.
18-Sep-14 | NJ | Trenton | Trenton Mercer | 4/2842 | 08/08/14 | ILS OR LOC RWY 6, Amdt 10.
18-Sep-14 | SC | Moncks Corner | Berkeley County | 4/3382 | 08/07/14 | VOR/DME A, Orig.
18-Sep-14 | VA | Galax Hillsville | Twin County | 4/3583 | 08/11/14 | RNAV (GPS) RWY 19, Amdt 1.
18-Sep-14 | VA | Galax Hillsville | Twin County | 4/3585 | 08/11/14 | RNAV (GPS) RWY 1, Amdt 1A.
18-Sep-14 | AZ | Phoenix | Phoenix Sky Harbor Intl | 4/3858 | 08/04/14 | ILS OR LOC RWY 7R, Amdt 2A.
18-Sep-14 | CT | Windsor Locks | Bradley Intl | 4/4238 | 08/08/14 | ILS OR LOC RWY 6, ILS RWY 6 (SA CAT I), ILS RWY 6 (CAT II & III), Amdt 37.
18-Sep-14 | CT | Windsor Locks | Bradley Intl | 4/4240 | 08/08/14 | RNAV (GPS) Y RWY 24, Amdt 3A.
18-Sep-14 | CT | Windsor Locks | Bradley Intl | 4/4241 | 08/08/14 | RNAV (GPS) RWY 33, Amdt 2A.
18-Sep-14 | CT | Windsor Locks | Bradley Intl | 4/4242 | 08/08/14 | RNAV (RNP) Z RWY 24, Orig-A
18-Sep-14 | CT | Windsor Locks | Bradley Intl | 4/4243 | 08/08/14 | RNAV (RNP) Z RWY 6, Orig.
18-Sep-14 | CT | Windsor Locks | Bradley Intl | 4/4244 | 08/08/14 | RNAV (GPS) Y RWY 6, Amdt 2.
18-Sep-14 | CT | Windsor Locks | Bradley Intl | 4/4245 | 08/08/14 | COPTER ILS OR LOC RWY 6, Amdt 1.
18-Sep-14 | CT | Windsor Locks | Bradley Intl | 4/4246 | 08/08/14 | ILS OR LOC RWY 33, Amdt 10.
18-Sep-14 | CT | Windsor Locks | Bradley Intl | 4/4256 | 08/08/14 | ILS OR LOC RWY 24, ILS RWY 24 (SA CAT I & II), Amdt 12A.
18-Sep-14 | WV | Spencer | Boggs Field | 4/4453 | 08/08/14 | RNAV (GPS) RWY 28, Amdt 1.
18-Sep-14 | WV | Spencer | Boggs Field | 4/4456 | 08/08/14 | RNAV (GPS) RWY 10, Amdt 2.
18-Sep-14 | KY | Lexington | Blue Grass | 4/4459 | 08/08/14 | RNAV (GPS) RWY 22, Amdt 1A.
18-Sep-14 | ID | Burley | Burley Muni | 4/4951 | 08/04/14 | RNAV (GPS) RWY 20, Orig-B.
18-Sep-14 | ID | Burley | Burley Muni | 4/4953 | 08/04/14 | VOR A, Amdt 4C.
18-Sep-14 | ID | Burley | Burley Muni | 4/4954 | 08/04/14 | VOR/DME B, Amdt 4C.
18-Sep-14 | NC | Statesville | Statesville Rgnl | 4/5224 | 08/08/14 | VOR/DME RWY 10, Amdt 9.
18-Sep-14 | AK | Cordova | Merle K (Mudhole) Smith | 4/5327 | 08/04/14 | ILS OR LOC/DME RWY 27, Amdt 11A.
18-Sep-14 | NY | Buffalo | Buffalo Niagara Intl | 4/5703 | 08/08/14 | RNAV (GPS) RWY 14, Amdt 2.
18-Sep-14 | NY | Buffalo | Buffalo Niagara Intl | 4/5704 | 08/08/14 | RNAV (GPS) RWY 32, Amdt 2.
18-Sep-14 | NY | Buffalo | Buffalo Niagara Intl | 4/5706 | 08/08/14 | ILS OR LOC RWY 5, Amdt 16.
18-Sep-14 | NY | Buffalo | Buffalo Niagara Intl | 4/5707 | 08/08/14 | ILS OR LOC RWY 23, Amdt 31.
18-Sep-14 | NY | Buffalo | Buffalo Niagara Intl | 4/5708 | 08/08/14 | ILS OR LOC/DME RWY 32, Amdt 1.
18-Sep-14 | WV | Charleston | Yeager | 4/5917 | 08/08/14 | RNAV (RNP) Z RWY 5, Orig.
18-Sep-14 | WV | Charleston | Yeager | 4/5922 | 08/08/14 | RNAV (RNP) Z RWY 23, Orig.
18-Sep-14 | WV | Charleston | Yeager | 4/5931 | 08/08/14 | RNAV (GPS) Y RWY 23, Amdt 1.
18-Sep-14 | WV | Charleston | Yeager | 4/5933 | 08/08/14 | RNAV (GPS) Y RWY 5, Amdt 1.
18-Sep-14 | KY | Paducah | Barkley Rgnl | 4/5935 | 08/07/14 | RNAV (GPS) RWY 32, Orig.
18-Sep-14 | KY | Paducah | Barkley Rgnl | 4/5937 | 08/07/14 | RNAV (GPS) RWY 14, Orig.
18-Sep-14 | KY | Paducah | Barkley Rgnl | 4/5942 | 08/07/14 | RNAV (GPS) RWY 22, Orig-C.
18-Sep-14 | KY | Paducah | Barkley Rgnl | 4/5944 | 08/07/14 | VOR/DME RWY 22, Amdt 6A.
18-Sep-14 | KY | Paducah | Barkley Rgnl | 4/5945 | 08/07/14 | ILS OR LOC RWY 4, Amdt 10A.
18-Sep-14 | NY | Newburgh | Stewart Intl | 4/6094 | 08/07/14 | ILS RWY 9 (SA CAT I), Amdt 13.
18-Sep-14 | NY | Newburgh | Stewart Intl | 4/6095 | 08/07/14 | ILS RWY 9 (CAT II & III), Amdt 13.
18-Sep-14 | NY | Newburgh | Stewart Intl | 4/6107 | 08/07/14 | ILS OR LOC RWY 9, Amdt 13.
18-Sep-14 | NM | Albuquerque | Albuquerque Intl Sunport | 4/6132 | 08/04/14 | RNAV (RNP) Z RWY 26, Amdt 1.
18-Sep-14 | ME | Bar Harbor | Hancock County-Bar Harbor | 4/6767 | 08/08/14 | RNAV (GPS) RWY 4, Amdt 1A.
18-Sep-14 | DE | Wilmington | New Castle | 4/6783 | 08/08/14 | ILS OR LOC RWY 1, Amdt 23A.
18-Sep-14 | DE | Wilmington | New Castle | 4/6784 | 08/08/14 | VOR RWY 9, Amdt 7.
18-Sep-14 | DE | Wilmington | New Castle | 4/6786 | 08/08/14 | VOR RWY 27, Amdt 4
18-Sep-14 | TN | Nashville | Nashville Intl | 4/6813 | 08/04/14 | RNAV (GPS) RWY 20C, Orig-A.
18-Sep-14 | TX | Bay City | Bay City Muni | 4/7290 | 08/07/14 | RNAV (GPS) RWY 31, Orig.
18-Sep-14 | TX | Bay City | Bay City Muni | 4/7299 | 08/07/14 | RNAV (GPS) RWY 13, Orig.
18-Sep-14 | TX | Alpine | Alpine-Casparis Muni | 4/7300 | 08/08/14 | NDB RWY 19, Amdt 5B.
18-Sep-14 | TX | Alpine | Alpine-Casparis Muni | 4/7302 | 08/08/14 | RNAV (GPS) RWY 19, Orig.
18-Sep-14 | GA | Albany | Southwest Georgia Rgnl | 4/7423 | 08/08/14 | NDB RWY 4, Amdt 13.
18-Sep-14 | AZ | Tucson | Tucson Intl | 4/7434 | 08/04/14 | RNAV (RNP) Y RWY 29R, Orig-C.
18-Sep-14 | KS | Larned | Larned-Pawnee County | 4/7581 | 08/08/14 | NDB RWY 17, Amdt 4.
18-Sep-14 | KS | Larned | Larned-Pawnee County | 4/7582 | 08/08/14 | RNAV (GPS) RWY 17, Orig.
18-Sep-14 | KS | Iola | Allen County | 4/7591 | 08/08/14 | RNAV (GPS) RWY 1, Amdt 1.
18-Sep-14 | KS | Iola | Allen County | 4/7592 | 08/08/14 | NDB RWY 1, Amdt 2A.
18-Sep-14 | OH | Columbus | Ohio State University | 4/7600 | 08/08/14 | RNAV (GPS) RWY 27L, Orig.
18-Sep-14 | OH | Columbus | Ohio State University | 4/7601 | 08/08/14 | RNAV (GPS) RWY 9R, Amdt 1.
18-Sep-14 | OH | Columbus | Ohio State University | 4/7602 | 08/08/14 | NDB RWY 9R, Amdt 3.
18-Sep-14 | OH | Columbus | Ohio State University | 4/7603 | 08/08/14 | ILS OR LOC RWY 9R, Amdt 5.
18-Sep-14 | TN | Pulaski | Abernathy Field | 4/7730 | 08/08/14 | RNAV (GPS) RWY 34, Amdt 2.
18-Sep-14 | TN | Pulaski | Abernathy Field | 4/7731 | 08/08/14 | RNAV (GPS) RWY 16, Amdt 2
18-Sep-14. | TN | Pulaski | Abernathy Field | 4/7732 | 08/08/14 | VOR/DME RWY 34, Amdt 2.
18-Sep-14 | VA | Norfolk | Chesapeake Rgnl | 4/7815 | 08/08/14 | RNAV (GPS) RWY 5, Amdt 1.
18-Sep-14 | VA | Norfolk | Chesapeake Rgnl | 4/7816 | 08/08/14 | ILS OR LOC RWY 5, Amdt 1.
18-Sep-14 | VA | Norfolk | Chesapeake Rgnl | 4/7817 | 08/08/14 | RNAV (GPS) RWY 23, Orig.
18-Sep-14 | VA | Norfolk | Chesapeake Rgnl | 4/7818 | 08/08/14 | VOR/DME RWY 23, Amdt 1.
18-Sep-14 | VA | Chase City | Chase City Muni | 4/7906 | 08/08/14 | RNAV (GPS) RWY 36, Amdt 1.
18-Sep-14 | VA | Chase City | Chase City Muni | 4/7907 | 08/08/14 | RNAV (GPS) RWY 18, Amdt 1A.
18-Sep-14 | MS | Grenada | Grenada Muni | 4/8280 | 08/08/14 | ILS OR LOC/DME RWY 13, Amdt 2.
18-Sep-14 | NY | Monticello | Sullivan County Intl | 4/8453 | 08/11/14 | RNAV (GPS) RWY 15, Orig-A.
18-Sep-14 | TX | Dallas-Fort Worth | Dallas/Fort Worth Intl | 4/8472 | 08/07/14 | ILS RWY 18R (SA CAT I), Amdt 8.
18-Sep-14 | TX | Dallas-Fort Worth | Dallas/Fort Worth Intl | 4/8473 | 08/07/14 | ILS OR LOC RWY 18R, Amdt 8.
18-Sep-14 | TX | Dallas-Fort Worth | Dallas/Fort Worth Intl | 4/8474 | 08/07/14 | CONVERGING ILS RWY 13R, Amdt 7.
18-Sep-14 | TX | Dallas-Fort Worth | Dallas/Fort Worth Intl | 4/8475 | 08/07/14 | ILS RWY 18R (CAT II & III), Amdt 8.
18-Sep-14 | TX | Dallas-Fort Worth | Dallas/Fort Worth Intl | 4/8476 | 08/07/14 | ILS RWY 35R (CAT II & III), Amdt 4A.
18-Sep-14 | TX | Dallas-Fort Worth | Dallas/Fort Worth Intl | 4/8477 | 08/07/14 | ILS OR LOC RWY 18L, Amdt 2.
18-Sep-14 | TX | Dallas-Fort Worth | Dallas/Fort Worth Intl | 4/8478 | 08/07/14 | ILS RWY 17R (SA CAT I & CAT II), Amdt 23A.
18-Sep-14 | TX | Dallas-Fort Worth | Dallas/Fort Worth Intl | 4/8479 | 08/07/14 | ILS OR LOC RWY 13R, Amdt 9.
18-Sep-14 | TX | Dallas-Fort Worth | Dallas/Fort Worth Intl | 4/8480 | 08/07/14 | VOR RWY 13R, Amdt 1B.
18-Sep-14 | TX | Dallas-Fort Worth | Dallas/Fort Worth Intl | 4/8481 | 08/07/14 | CONVERGING ILS RWY 18R, Amdt 6.
18-Sep-14 | TX | Dallas-Fort Worth | Dallas/Fort Worth Intl | 4/8482 | 08/07/14 | CONVERGING ILS RWY 18L, Amdt 2.
18-Sep-14 | TX | Dallas-Fort Worth | Dallas/Fort Worth Intl | 4/8483 | 08/07/14 | ILS OR LOC RWY 35R, Amdt 4A.
18-Sep-14 | TX | Dallas-Fort Worth | Dallas/Fort Worth Intl | 4/8484 | 08/07/14 | ILS RWY 35R (SA CAT I), Amdt 4A.
18-Sep-14 | TX | Dallas-Fort Worth | Dallas/Fort Worth Intl | 4/8485 | 08/07/14 | ILS OR LOC RWY 17R, Amdt 23A.
18-Sep-14 | TX | Dallas-Fort Worth | Dallas/Fort Worth Intl | 4/8486 | 08/07/14 | ILS RWY 13R (SA CAT I & CAT II), Amdt 9.
18-Sep-14 | NY | New York | John F Kennedy Intl | 4/9051 | 08/08/14 | ILS OR LOC RWY 31L, Amdt 10C.
18-Sep-14 | NY | New York | John F Kennedy Intl | 4/9052 | 08/08/14 | ILS OR LOC RWY 31R, Amdt 15C.
18-Sep-14 | CA | Santa Maria | Santa Maria Pub/Capt G Allan Hancock Fld | 4/9118 | 08/08/14 | RNAV (GPS) RWY 30, Orig-A
18-Sep-14 | AL | Huntsville | Madison County Executive/Tom Sharp Jr Fld | 4/9395 | 08/11/14 | RNAV (GPS) RWY 18, Amdt 2.
18-Sep-14 | AL | Huntsville | Madison County Executive/Tom Sharp Jr Fld | 4/9426 | 08/11/14 | VOR/DME B, Amdt 7.
18-Sep-14 | AL | Huntsville | Madison County Executive/Tom Sharp Jr Fld | 4/9428 | 08/11/14 | RNAV (GPS) RWY 36, Amdt 1.
18-Sep-14 | AL | Huntsville | Madison County Executive/Tom Sharp Jr Fld | 4/9429 | 08/11/14 | Takeoff Minimums and (Obstacle) DP, Amdt 4.
18-Sep-14 | AL | Huntsville | Madison County Executive/Tom Sharp Jr Fld | 4/9431 | 08/11/14 | ILS OR LOC/DME RWY 18, Amdt 1.
18-Sep-14 | NJ | Belmar/Farmingdale | Monmouth Executive | 4/9787 | 08/08/14 | RNAV (GPS) RWY 14, Orig-A.
18-Sep-14 | NJ | Belmar/Farmingdale | Monmouth Executive | 4/9788 | 08/08/14 | RNAV (GPS) RWY 32, Orig.
18-Sep-14 | NJ | Belmar/Farmingdale | Monmouth Executive | 4/9791 | 08/08/14 | VOR A, Amdt 3A

[FR Doc. 2014-22378 Filed 9-24-14; 8:45 am]

BILLING CODE 4910-13-P